DEPARTMENT OF ENERGY

National Commission on the BP Deepwater Horizon Oil Spill and Offshore Drilling

AGENCY: Department of Energy, Office of Fossil Energy.

ACTION: Notice of Open Meeting.

SUMMARY: This notice announces an open meeting for the National Commission on the BP Deepwater Horizon Oil Spill and Offshore Drilling (the Commission). The Commission was organized pursuant to the Federal Advisory Committee Act (Pub. L. 92-463, 86 Stat. 770) (the Act). The Act requires that agencies publish these notices in the Federal Register. The Charter of the Commission can be found at: http://www.OilSpillCommission.gov.

DATES: Wednesday, August 25, 2010, 9 a.m.-5 p.m.

ADDRESSES: Ronald Reagan Building and International Trade Center, 1300 Pennsylvania Avenue, NW., Washington, DC 20004; telephone number: 1-202-312-1300.

FOR FURTHER INFORMATION CONTACT: Christopher A. Smith, Designated Federal Officer, Mail Stop: FE-30, U.S. Department of Energy, 1000 Independence Avenue, SW., Washington, DC 20585; telephone (202) 586-0716 or facsimile (202) 586-6221; e-mail: BPDeepwaterHorizonCommission@hq.doe.gov.

SUPPLEMENTARY INFORMATION: Background: The President directed that the Commission be established to examine the relevant facts and circumstances concerning the root causes of the BP Deepwater Horizon explosion, fire and oil spill and to develop options to guard against, and mitigate the impact of, any oil spills associated with offshore drilling in the future.

The Commission is composed of seven members appointed by the President to serve as special Government employees. The members were selected because of their extensive scientific, legal, engineering, and environmental expertise, and their knowledge of issues pertaining to the oil and gas industry. Information on the Commission can be found at its Web site: http://www.OilSpillCommission.gov.

Purpose of the Meeting: Inform the Commission members about the relevant facts and circumstances concerning the root causes of the BP Deepwater Horizon oil disaster. The meeting will provide the Commission with the opportunity to hear presentations and statements from various experts and provide additional information for the Commission's consideration.

Tentative Agenda: The meeting is expected to start on August 25 at 9 a.m. Presentations to the Commission are expected to begin shortly thereafter. Public comments can be made from 3:45 p.m. to 4:45 p.m. The final agenda will be available at the Commission's Web site at http://www.OilSpillCommission.gov.

Public Participation: The meeting is open to the public, with capacity and seats available on a first-come, first-serve basis. The Designated Federal Officer is empowered to conduct the meeting in a fashion that will facilitate the orderly conduct of business.

Approximately one hour will be reserved for public comments. Time allotted per speaker will be 3 minutes. Opportunity for public comment will be available on August 25 from 3:45 p.m. to 4:45 p.m. Registration for those wishing to request an opportunity to speak opens on-site at 8 a.m. Speakers will be chosen on a first-come, first-serve basis. Members of the public wishing to provide oral comments are encouraged to provide a written copy of their comments for collection at the time of on-site registration.

Those not able to attend the meeting may view the meeting live on the Commission Web site: http://www.OilSpillCommission.gov. Those individuals who are not able to attend the meeting, or who are not able to provide oral comments during the meeting, are invited to send a written statement to Christopher A. Smith, Mail Stop FE-30, U.S. Department of Energy, 1000 Independence Ave., SW., Washington, DC 20585, or e-mail: BPDeepwaterHorizonCommission@hq.doe.gov.

Minutes: The minutes of the meeting will be available at the Commission's Web site: http://www.OilSpillCommision.gov or by contacting Mr. Smith. He may be reached at the postal or e-mail addresses above.

Accommodation for the hearing impaired: A sign language interpreter will be on site for the duration of the meeting.

Issued in Washington, DC, on August 3, 2010.
LaTanya R. Butler,
Acting Deputy Committee Management Officer.

[FR Doc. 2010-19405 Filed 8-5-10; 8:45 am]

BILLING CODE 6450-01-P